DEPARTMENT OF COMMERCE

International Trade Administration

[A-570-951]

Antidumping Duty Order: Certain Woven Electric Blankets From the People's Republic of China

AGENCY: Import Administration, International Trade Administration, Department of Commerce

DATES: Effective Date: August 18, 2010

SUMMARY: Based on affirmative final determinations by the Department of Commerce (the “Department”) and the International Trade Commission (“ITC”), the Department is issuing an antidumping duty order on certain woven electric blankets (“woven electric blankets”) from the People's Republic of China (“PRC”).

FOR FURTHER INFORMATION CONTACT: Drew Jackson, AD/CVD Operations, Office 4, Import Administration, International Trade Administration, U.S. Department of Commerce, 14th Street and Constitution Avenue, NW., Washington, DC, 20230; telephone: 202-482-4406.

SUPPLEMENTARY INFORMATION:

Background

In accordance with sections 735(d) and 777(i)(1) of the Tariff Act of 1930, as amended (the “Act”), on July 2, 2010, the Department published Certain Woven Electric Blankets From the People's Republic of China: Final Determination of Sales at Less Than Fair Value, 75 FR 38459 (July 2, 2010) (“Final Determination”). Following the publication of the Final Determination, we received timely notice from Jarden Consumer Solutions (“Petitioner”), that the Department had made ministerial errors in its calculation of the antidumping duty margins for the mandatory respondent, Hung Kuo Electronics (Shenzen) Company Limited (“Hung Kuo”). After analyzing Petitioner's comments, the Department concluded that an inadvertent ministerial error was made in the calculation of Hung Kuo's margin. Therefore, in accordance with section 735(e) of the Act and 19 CFR 351.224(e), on August 4, 2010, the Department published Certain Woven Electric Blankets from the People's Republic of China: Amended Final Determination of Sales at Less Than Fair Value, 75 FR 46911 (August 4, 2010) (“Amended Final Determination”). In the Amended Final Determination, to correct this inadvertent ministerial error, we amended Hung Kuo's weighted average dumping margin from 77.75 percent to 93.09 percent and, as we did in the Final Determination, assigned Hung Kuo's new rate of 93.09 percent to the two separate rate companies—Ningbo V.K. Industry & Trading Co., Ltd. and Ningbo Jifa Electrical Appliances Co., Ltd./Ningbo Jinchun Electric Appliances Co., Ltd. The PRC-wide rate, 174.85 percent, was not changed from the Final Determination. See Amended Final Determination at 46911.

On August 10, 2010, the ITC notified the Department of its affirmative final determination of material injury to a U.S. industry. See Woven Electric Blankets from China, Investigation No. 731-TA-1163 (Final), USITC Publication 4177 (August 2010). Pursuant to section 736(a) of the Act, the Department is issuing the antidumping duty order on woven electric blankets from the PRC.

Scope of the Order

The scope of this order covers finished, semi-finished, and unassembled woven electric blankets, including woven electric blankets commonly referred to as throws, of all sizes and fabric types, whether made of man-made fiber, natural fiber or a blend of both. Semi-finished woven electric blankets and throws consist of shells of woven fabric containing wire. Unassembled woven electric blankets and throws consist of a shell of woven fabric and one or more of the following components when packaged together or in a kit: (1) Wire; (2) controller(s). The shell of woven fabric consists of two sheets of fabric joined together forming a “shell.” The shell of woven fabric is manufactured to accommodate either the electric blanket's wiring or a subassembly containing the electric blanket's wiring (e.g., wiring mounted on a substrate).

A shell of woven fabric that is not packaged together, or in a kit, with either wire, controller(s), or both, is not covered by this investigation even though the shell of woven fabric may be dedicated solely for use as a material in the production of woven electric blankets.

The finished, semi-finished and unassembled woven electric blankets and throws subject to this order are currently classifiable under subheading 6301.10.0000 of the Harmonized Tariff Schedule of the United States (“HTSUS”). Although the HTSUS subheading is provided for convenience and customs purposes, only the written description of the scope is dispositive.

Provisional Measures

Section 733(d) of the Act states that suspension of liquidation instructions issued pursuant to an affirmative preliminary determination may not remain in effect for more than four months except where exporters representing a significant proportion of exports of the subject merchandise request the Department to extend that four-month period to no more than six months. At the request of an exporter accounting for a significant proportion of exports of the subject merchandise, we extended the four-month period to no more than six months. See Certain Woven Electric Blankets From the People's Republic of China: Preliminary Determination of Sales at Less Than Fair Value and Postponement of Final Determination, 75 FR 5567 (February 3, 2010) (“Preliminary Determination”). In this investigation, the six-month period beginning on the date of the publication of the Preliminary Determination (i.e., February 3, 2010) ended on August 2, 2010. Furthermore, section 737 of the Act states that definitive duties are to begin on the date of publication of the ITC's final injury determination. Therefore, in accordance with section 733(d) of the Act, we have instructed U.S. Customs and Border Protection (“CBP”) to terminate suspension of liquidation and to liquidate without regard to antidumping duties (i.e., release all bonds and refund all cash deposits), unliquidated entries of woven electric blankets from the PRC entered, or withdrawn from warehouse, for consumption after August 2, 2010, and before the date of publication of the ITC's final injury determination in the Federal Register. Suspension of liquidation will continue on or after the date of publication of the ITC's final injury determination in the Federal Register.

Antidumping Duty Order

On August 10, 2010, in accordance with section 735(d) of the Act, the ITC notified the Department of its final determination, pursuant to section 735(b)(1)(A)(i) of the Act, that an industry in the United States is materially injured by reason of less-than-fair-value imports of subject merchandise from the PRC. Therefore, in accordance with section 736(a)(1) of the Act, the Department will direct CBP to assess, upon further instruction by the Department, antidumping duties equal to the amount by which the normal value of the merchandise exceeds the constructed export price of the merchandise for all relevant entries of woven electric blankets from the PRC. Except for the entries noted above,¹ these antidumping duties will be assessed on all unliquidated entries of woven electric blankets from the PRC entered, or withdrawn from the warehouse, for consumption on or after February 3, 2010, the date on which the Department published its Preliminary Determination. See Preliminary Determination at 5567.

¹ Namely, entries of woven electric blankets from the PRC entered, or withdrawn from warehouse, for consumption after August 2, 2010, and before the date of publication of the ITC's final injury determination in the Federal Register.

Effective on the date of publication of the ITC's final affirmative injury determination, CBP will require, at the same time as importers would normally deposit estimated duties on this merchandise, a cash deposit equal to the estimated weighted-average antidumping duty margins listed below. See section 735(c)(3) of the Act. The “PRC-wide” rate applies to all exporters of subject merchandise not specifically listed. The weighted-average dumping margins are as follows:

Exporter and producer | Weighted-average margin (percent)
Hung Kuo Electronics (Shenzhen) Company Limited | 93.09
Produced by: Hung Kuo Electronics (Shenzhen) Company Limited
Ningbo V.K. Industry & Trading Co., Ltd. | 93.09
Produced by: Ningbo V.K. Industry & Trading Co., Ltd.
Ningbo Jifa Electrical Appliances Co., Ltd. or | 93.09
Ningbo Jinchun Electric Appliances Co., Ltd.
Produced by: Ningbo Jifa Electrical Appliances Co., Ltd. or Ningbo Jinchun Electric Appliances Co., Ltd.
PRC-Wide Rate | 174.85

This notice constitutes the antidumping duty order with respect to woven electric blankets from the PRC pursuant to section 736(a) of the Act. Interested parties may contact the Department's Central Records Unit, Room 1117 of the main Commerce building, for copies of an updated list of antidumping duty orders currently in effect.

This order is published in accordance with section 736(a) of the Act and 19 CFR 351.211.

Dated: August 11, 2010.
Ronald K. Lorentzen,
Deputy Assistant Secretary for Import Administration.

[FR Doc. 2010-20496 Filed 8-17-10; 8:45 am]

BILLING CODE 3510-DS-P